GENERAL SERVICES ADMINISTRATION

[VSI-Notice 2011-01; Docket 2011-0005; Sequence 11]

Notice Pursuant to Executive Order 12600 of Receipt of Freedom of Information Act (FOIA) Requests for Access to the Central Contractor Registration (CCR) Database

AGENCY: General Services Administration.

ACTION: Notice.

SUMMARY: This notice provides submitters notice pursuant to Executive Order 12600 that the General Services Administration, Office of Governmentwide Policy, Acquisition Systems Division (ASD) has received several FOIA requests for certain data elements (CCR extracts) within the Central Contractor Registration (CCR) database. This notice describes each data element contained in CCR, and its exemption status under FOIA.

The following information applies to CCR data fields 250 through 254 only, which are marked with a “*”:

Information posted in data fields 250 to 254 prior to April 15, 2011, regardless of which Federal Acquisition Regulation (FAR) provision or clause it is posted under, will be subject to release in accordance with the Freedom of Information Act procedures at 5 U.S.C. 552, including, where appropriate, procedures promulgated under E.O. 12600, “Predisclosure Notification Procedures for Confidential Commercial Information.”

Information posted in data fields 250 to 254 (or subsequently on the Federal Awardee Performance and Integrity Information System (FAPIIS)), on or after April 15, 2011, will be available to the public, as required by Section 3010 of Public Law 111-212 (see 41 U.S.C. 417b, as codified, 41 U.S.C. 2313) and in accordance with FAR clause 52.209-9 (version dated JAN 2011).

Federal contractors must NOT post information required under FAR clause 52.209-7 (version dated JAN 2011) on or after April 15, 2011. Any contractors with a contract containing clause 52.209-7 (version dated JAN 2011) that requires update of information on or after April 15, 2011, should contact their contracting officer immediately to discuss a modification.

The following information applies to CCR data fields 255 through 260, which are marked with “**”:

Any information entered in data fields 255 to 260 before April 15, 2011, is only available to authorized individuals in accordance with the Freedom of Information Act procedures at 5 U.S.C. 552. Information posted on or after April 15, 2011, will be available to the public, as required by Section 3010 of Pub. L. 111-212 (see 41 U.S.C. 417b, as codified, 41 U.S.C. 2313) and in accordance with FAR clause 52.209-9 (version dated JAN 2011).

Federal contractors must not post information to data fields 255 to 260 under FAR clause 52.209-7 (version dated JAN 2011) on or after April 15, 2011. Any contractors with a contract containing clause 52.209-7 (version dated JAN 2011) that requires update of information on or after April 15, 2011, should contact their contracting officer immediately to discuss a modification.

DATES: Comments must be received on or before June 15, 2011. Submit comments to the addresses shown below.

ADDRESSES: Submit comments identified by VSI-Notice 2011-01, by any of the following methods:

• Regulations.gov: http://www.regulations.gov. Submit comments via the Federal eRulemaking portal by inputting “VSI-Notice 2011-01” under the heading “Enter Keyword or ID” and selecting “Search”. Select the link “Submit a Comment” that corresponds with “VSI-Notice 2011-01”. Follow the instructions provided at the “Submit a Comment” screen. Please include your name, company name (if any), and “VSI-Notice 2011-01” on your attached document.

• Fax: 202-501-4067

• Mail: General Services Administration, Regulatory Secretariat (MVCB), 1275 First St, NE., Washington, DC 20417, Attn: Hada Flowers/VSI-Notice 2011-01, Washington, DC 20405.

Instructions: Please submit comments only and cite VSI-Notice 2011-01, in all correspondence related to this case. All comments received will be posted without change to http://www.regulations.gov, including any personal and/or business confidential information provided.

FOR FURTHER INFORMATION CONTACT: Meredith Whitehead at (703) 605-9466.

SUPPLEMENTARY INFORMATION: The CCR is an e-Gov initiative within the Acquisition Systems Division. The primary objective of the CCR is to provide a web-based application that provides a single source of vendor information in support of the contract award and the electronic payment process of the Federal government. The CCR is also a registration system for grants and assistance awards. The CCR has 260 data fields, some of which are exempt from disclosure pursuant to Exemption 4 of the Freedom of information Act (FOIA), 5 U.S.C. 552(b)(4).

The following table contains a description of these data fields and their exempt status:

FOIA Review of the CCR Data Fields
Data field | Exempt status | Public comments
1) CAGE CODE | Not exempt under the FOIA |
2) CCR EXTRACT CODE | Not exempt under the FOIA |
3) REGISTRATION DATE | Not exempt under the FOIA |
4) RENEWAL DATE | Not exempt under the FOIA |
5) LEGAL BUS NAME | Not exempt under the FOIA |
6) DBA NAME | Not exempt under the FOIA |
7) COMPANY DIVISION | Not exempt under the FOIA |
8) DIVISION NUMBER | Not exempt under the FOIA |
9) ST ADD (1) | Not exempt under the FOIA |
10) ST ADD (2) | Not exempt under the FOIA |
11) CITY | Not exempt under the FOIA |
12) STATE OR PROVINCE | Not exempt under the FOIA |
13) POSTAL CODE | Not exempt under the FOIA |
14) COUNTRY CODE | Not exempt under the FOIA |
15) BUS START DATE | Not exempt under the FOIA |
16) FISCAL YEAR END CLOSE DATE | Not exempt under the FOIA |
17) CORPORATE URL | Not exempt under the FOIA |
18) ORGANIZATIONAL TYPE | Not exempt under the FOIA |
19) STATE OF INC | Not exempt under the FOIA |
20) COUNTRY OF INC | Not exempt under the FOIA |
21) BUS TYPES | Not exempt under the FOIA |
22) BUS TYPE COUNTER | Not exempt under the FOIA |
23) SIC CODE | Not exempt under the FOIA |
24) SIC CODE COUNTER | Not exempt under the FOIA |
25) NAICS CODE | Not exempt under the FOIA |
26) NAICS CODE COUNTER | Not exempt under the FOIA |
27) FSC CODE | Not exempt under the FOIA |
28) FSC CODE COUNTER | Not exempt under the FOIA |
29) PSC CODE | Not exempt under the FOIA |
30) PSC CODE COUNTER | Not exempt under the FOIA |
31) CREDIT CARD (y/n) | Not exempt under the FOIA |
32) CORRESPONDENCE FLAG | Not exempt under the FOIA |
33) MAILING ADD POC (FE) | Not exempt under the FOIA |
34) MAILING ADD ST ADD (1) | Not exempt under the FOIA |
35) MAILING ADD ST ADD (2) | Not exempt under the FOIA |
36) MAILING ADD CITY | Not exempt under the FOIA |
37) MAILING ADD POSTAL CODE | Not exempt under the FOIA |
38) MAILING ADD COUNTRY CODE | Not exempt under the FOIA |
39) MAILING ADD STATE/PROVINCE | Not exempt under the FOIA |
40) PREVIOUS BUS POC (B3) | Not exempt under the FOIA |
41) PREVIOUS BUS ST ADD (1) | Not exempt under the FOIA |
42) PREVIOUS BUS ST ADD (2) | Not exempt under the FOIA |
43) PREVIOUS BUS CITY | Not exempt under the FOIA |
44) PREVIOUS BUS POSTAL CODE | Not exempt under the FOIA |
45) PREVIOUS BUS COUNTRY CODE | Not exempt under the FOIA |
46) PREVIOUS BUS STATE/PROVINCE | Not exempt under the FOIA |
47) GOVT BUS POC (60) | Not exempt under the FOIA |
48) GOVT BUS ST ADD (1) | Not exempt under the FOIA |
49) GOVT BUS ST ADD (2) | Not exempt under the FOIA |
50) GOVT BUS CITY | Not exempt under the FOIA |
51) GOVT BUS POSTAL CODE | Not exempt under the FOIA |
52) GOVT BUS COUNTRY CODE | Not exempt under the FOIA |
53) GOVT BUS STATE OR PROVINCE | Not exempt under the FOIA |
54) GOVT BUS U.S. PHONE | Not exempt under the FOIA |
55) GOVT BUS U.S. PHONE EXT | Not exempt under the FOIA |
56) GOVT BUS NON-U.S. PHONE | Not exempt under the FOIA |
57) GOVT BUS FAX U.S. ONLY | Not exempt under the FOIA |
58) GOVT BUS E-MAIL | Not exempt under the FOIA |
59) ALT GOVT BUS POC (60) | Not exempt under the FOIA |
60) ALT GOVT BUS ST ADD (1) | Not exempt under the FOIA |
61) ALT GOVT BUS ST ADD (2) | Not exempt under the FOIA |
62) ALT GOVT BUS CITY | Not exempt under the FOIA |
63) ALT GOVT BUS POSTAL CODE | Not exempt under the FOIA |
64) ALT GOVT BUS COUNTRY CODE | Not exempt under the FOIA |
65) ALT GOVT BUS STATE OR PROVINCE | Not exempt under the FOIA |
66) ALT GOVT BUS U.S. PHONE | Not exempt under the FOIA |
67) ALT GOVT BUS U.S. PHONE EXT | Not exempt under the FOIA |
68) ALT GOVT BUS NON-U.S. PHONE | Not exempt under the FOIA |
69) ALT GOVT BUS FAX U.S. ONLY | Not exempt under the FOIA |
70) ALT GOVT BUS E-MAIL | Not exempt under the FOIA |
71) PAST PERF POC (R2) | Not exempt under the FOIA |
72) PAST PERF ST ADD (1) | Not exempt under the FOIA |
73) PAST PERF ST ADD (2) | Not exempt under the FOIA |
74) PAST PERF CITY | Not exempt under the FOIA |
75) PAST PERF POSTAL CODE | Not exempt under the FOIA |
76) PAST PERF COUNTRY CODE | Not exempt under the FOIA |
77) PAST PERF STATE OR PROVINCE | Not exempt under the FOIA |
78) PAST PERF U.S. PHONE | Not exempt under the FOIA |
79) PAST PERF U.S. PHONE EXT | Not exempt under the FOIA |
80) PAST PERF NON-U.S. PHONE | Not exempt under the FOIA |
81) PAST PERF FAX U.S. ONLY | Not exempt under the FOIA |
82) PAST PERF E-MAIL | Not exempt under the FOIA |
83) ALT PAST PERF POC (R2) | Not exempt under the FOIA |
84) ALT PAST PERF ST ADD (1) | Not exempt under the FOIA |
85) ALT PAST PERF ST ADD (2) | Not exempt under the FOIA |
86) ALT PAST PERF CITY | Not exempt under the FOIA |
87) ALT PAST PERF POSTAL CODE | Not exempt under the FOIA |
88) ALT PAST PERF COUNTRY CODE | Not exempt under the FOIA |
89) ALT PAST PERF STATE OR PROVINCE | Not exempt under the FOIA |
90) ALT PAST PERF U.S. PHONE | Not exempt under the FOIA |
91) ALT PAST PERF U.S. PHONE EXT | Not exempt under the FOIA |
92) ALT PAST PERF NON-U.S. PHONE | Not exempt under the FOIA |
93) ALT PAST PERF FAX U.S. ONLY | Not exempt under the FOIA |
94) ALT PAST PERF E-MAIL | Not exempt under the FOIA |
95) ELEC BUS POC (ZR) | Not exempt under the FOIA |
96) ELEC BUS ST ADD (1) | Not exempt under the FOIA |
97) ELEC BUS ST ADD (2) | Not exempt under the FOIA |
98) ELEC BUS CITY | Not exempt under the FOIA |
99) ELEC BUS POSTAL CODE | Not exempt under the FOIA |
100) ELEC BUS COUNTRY CODE | Not exempt under the FOIA |
101) ELEC BUS STATE OR PROVINCE | Not exempt under the FOIA |
102) ELEC BUS U.S. PHONE | Not exempt under the FOIA |
103) ELEC BUS U.S. PHONE EXT | Not exempt under the FOIA |
104) ELEC BUS NON-U.S. PHONE | Not exempt under the FOIA |
105) ELEC BUS FAX U.S. ONLY | Not exempt under the FOIA |
106) ELEC BUS E-MAIL | Not exempt under the FOIA |
107) ALT ELEC BUS POC (ZR) | Not exempt under the FOIA |
108) ALT ELEC BUS ST ADD (1) | Not exempt under the FOIA |
109) ALT ELEC BUS ST ADD (2) | Not exempt under the FOIA |
110) ALT ELEC BUS CITY | Not exempt under the FOIA |
111) ALT ELEC BUS POSTAL CODE | Not exempt under the FOIA |
112) ALT ELEC BUS COUNTRY CODE | Not exempt under the FOIA |
113) ALT ELEC BUS STATE OR PROVINCE | Not exempt under the FOIA |
114) ALT ELEC BUS U.S. PHONE | Not exempt under the FOIA |
115) ALT ELEC BUS U.S. PHONE EXT | Not exempt under the FOIA |
116) ALT ELEC BUS NON-U.S. PHONE | Not exempt under the FOIA |
117) ALT ELEC BUS FAX U.S. ONLY | Not exempt under the FOIA |
118) ALT ELEC BUS E-MAIL | Not exempt under the FOIA |
119) CERTIFIER POC (CE) | Not exempt under the FOIA |
120) CERTIFIER U.S. PHONE | Not exempt under the FOIA |
121) CERTIFIER U.S. PHONE EXT | Not exempt under the FOIA |
122) CERTIFIER NON-U.S. PHONE | Not exempt under the FOIA |
123) CERTIFIER FAX U.S. ONLY | Not exempt under the FOIA |
124) CERTIFIER E-MAIL | Not exempt under the FOIA |
125) ALT CERTIFIER POC (IC) | Not exempt under the FOIA |
126) ALT CERTIFIER U.S. PHONE | Not exempt under the FOIA |
127) ALT CERTIFIER U.S. PHONE EXT | Not exempt under the FOIA |
128) ALT CERTIFIER NON-U.S. PHONE | Not exempt under the FOIA |
129) ALT CERTIFIER FAX U.S. ONLY | Not exempt under the FOIA |
130) ALT CERTIFIER E-MAIL | Not exempt under the FOIA |
131) CORP INFO POC (CN) | Not exempt under the FOIA |
132) CORP INFO U.S. PHONE | Not exempt under the FOIA |
133) CORP INFO U.S. PHONE EXT | Not exempt under the FOIA |
134) CORP INFO NON-U.S. PHONE | Not exempt under the FOIA |
135) CORP INFO FAX U.S. ONLY | Not exempt under the FOIA |
136) CORP INFO E-MAIL | Not exempt under the FOIA |
137) OWNER INFO POC (OW) | Not exempt under the FOIA |
138) OWNER INFO U.S. PHONE | Not exempt under the FOIA |
139) OWNER INFO U.S. PHONE EXT | Not exempt under the FOIA |
140) OWNER INFO NON-U.S. PHONE | Not exempt under the FOIA |
141) OWNER INFO FAX U.S. ONLY | Not exempt under the FOIA |
142) OWNER E-MAIL | Not exempt under the FOIA |
143) EDI (y/n) | Not exempt under the FOIA |
144) AVG NUMBER OF EMPLOYEES | Not exempt under the FOIA |
145) ANNUAL REVENUE | Not exempt under the FOIA |
146) AUTHORIZATION DATE (mmddyyyy) | Not exempt under the FOIA |
147) EFT WAIVER | Not exempt under the FOIA |
148) NAICS EXCEPTIONS COUNTER | Not exempt under the FOIA |
149) NAICS EXCEPTIONS | Not exempt under the FOIA |
150) EXTERNAL CERTIFICATION FLAG COUNTER | Not exempt under the FOIA |
151) EXTERNAL CERTIFICATION FLAG | Not exempt under the FOIA |
152) SBA CERTIFICATION FLAG COUNTER | Not exempt under the FOIA |
153) SBA CERTIFICATION | Not exempt under the FOIA |
154) CURRENT REG STATUS | Not exempt under the FOIA |
155) CCR NUMERICS COUNTER | Not exempt under the FOIA |
156) CCR NUMERICS | Exempt—5 U.S.C. 552(b)(4) |
157) BARRELS CAPACITY | Not exempt under the FOIA |
158) MEGAWATTS HOURS | Not exempt under the FOIA |
159) TOTAL ASSETS | Not exempt under the FOIA |
160) FLAGS COUNTER | Not exempt under the FOIA |
161) FLAGS | Not exempt under the FOIA |
162) DISASTER RESPONSE COUNTER | Not exempt under the FOIA |
163) DISASTER RESPONSE | Not exempt under the FOIA |
164) END-OF-RECORD INDICATOR | Not exempt under the FOIA |
165) HEADQUARTER PARENT POC (HQ) | Exempt—5 U.S.C. 552(b)(4) |
166) HQ PARENT DUNS NUMBER | Exempt—5 U.S.C. 552(b)(4) |
167) HQ PARENT ST ADD (1) | Exempt—5 U.S.C. 552(b)(4) |
168) HQ PARENT ST ADD (2) | Exempt—5 U.S.C. 552(b)(4) |
169) HQ PARENT CITY | Exempt—5 U.S.C. 552(b)(4) |
170) HQ PARENT POSTAL CODE | Exempt—5 U.S.C. 552(b)(4) |
171) HQ PARENT COUNTRY CODE | Exempt—5 U.S.C. 552(b)(4) |
172) HQ PARENT STATE OR PROVINCE | Exempt—5 U.S.C. 552(b)(4) |
173) HQ PARENT PHONE | Exempt—5 U.S.C. 552(b)(4) |
174) DOMESTIC PARENT POC (DM) | Exempt—5 U.S.C. 552(b)(4) |
175) DOMESTIC PARENT DUNS NUMBER | Exempt—5 U.S.C. 552(b)(4) |
176) DOMESTIC PARENT ST ADD (1) | Exempt—5 U.S.C. 552(b)(4) |
177) DOMESTIC PARENT ST ADD (2) | Exempt—5 U.S.C. 552(b)(4) |
178) DOMESTIC PARENT CITY | Exempt—5 U.S.C. 552(b)(4) |
179) DOMESTIC PARENT POSTAL CODE | Exempt—5 U.S.C. 552(b)(4) |
180) DOMESTIC PARENT COUNTRY CODE | Exempt—5 U.S.C. 552(b)(4) |
181) DOMESTIC PARENT STATE OR PROVINCE | Exempt—5 U.S.C. 552(b)(4) |
182) DOMESTIC PARENT PHONE | Exempt—5 U.S.C. 552(b)(4) |
183) GLOBAL PARENT POC (GL) | Exempt—5 U.S.C. 552(b)(4) |
184) GLOBAL PARENT DUNS NUMBER | Exempt—5 U.S.C. 552(b)(4) |
185) GLOBAL PARENT ST ADD (1) | Exempt—5 U.S.C. 552(b)(4) |
186) GLOBAL PARENT ST ADD (2) | Exempt—5 U.S.C. 552(b)(4) |
187) GLOBAL PARENT CITY | Exempt—5 U.S.C. 552(b)(4) |
188) GLOBAL PARENT POSTAL CODE | Exempt—5 U.S.C. 552(b)(4) |
189) GLOBAL PARENT COUNTRY CODE | Exempt—5 U.S.C. 552(b)(4) |
190) GLOBAL PARENT STATE OR PROVINCE | Exempt—5 U.S.C. 552(b)(4) |
191) GLOBAL PARENT PHONE | Exempt—5 U.S.C. 552(b)(4) |
192) DNB MONITORING LAST UPDATED | Exempt—5 U.S.C. 552(b)(4) |
193) DNB MONITORING STATUS | Exempt—5 U.S.C. 552(b)(4) |
194) DNB MONITORING CORP NAME | Exempt—5 U.S.C. 552(b)(4) |
195) DNB MONITORING DBA | Exempt—5 U.S.C. 552(b)(4) |
196) DNB MONITORING ST ADD (1) | Exempt—5 U.S.C. 552(b)(4) |
197) DNB MONITORING ST ADD (2) | Exempt—5 U.S.C. 552(b)(4) |
198) DNB MONITORING CITY | Exempt—5 U.S.C. 552(b)(4) |
199) DNB MONITORING POSTAL CODE | Exempt—5 U.S.C. 552(b)(4) |
200) DNB MONITORING COUNTRY CODE | Exempt—5 U.S.C. 552(b)(4) |
201) DNB MONITORING STATE OR PROVINCE | Exempt—5 U.S.C. 552(b)(4) |
202) AUSTIN TETRA NUMBER | Exempt—5 U.S.C. 552(b)(4) |
203) AUSTIN TETRA PARENT NUMBER | Exempt—5 U.S.C. 552(b)(4) |
204) AUSTIN TETRA ULTIMATE NUMBER | Exempt—5 U.S.C. 552(b)(4) |
205) AUSTIN TETRA PCARD FLAG | Exempt—5 U.S.C. 552(b)(4) |
206) DUNS | Exempt—5 U.S.C. 552(b)(4) |
207) DUNS+4 | Exempt—5 U.S.C. 552(b)(4) |
208) COMPANY SECURITY LEVEL | Exempt—5 U.S.C. 552(b)(4) |
209) EMPLOYEE SECURITY LEVEL | Exempt—5 U.S.C. 552(b)(4) |
210) TAX PAYER ID NUMBER | Exempt—5 U.S.C. 552(b)(4) |
211) SOCIAL SECURITY NUMBER | Exempt—5 U.S.C. 552(b)(4) |
212) FINANCIAL INSTITUTE | Exempt—5 U.S.C. 552(b)(4) |
213) ACCOUNT NUMBER | Exempt—5 U.S.C. 552(b)(4) |
214) ABA ROUTING ID | Exempt—5 U.S.C. 552(b)(4) |
215) PAYMENT TYPE (C or S) | Exempt—5 U.S.C. 552(b)(4) |
216) LOCKBOX NUMBER | Exempt—5 U.S.C. 552(b)(4) |
217) ACH U.S. PHONE | Exempt—5 U.S.C. 552(b)(4) |
218) ACH NON-U.S. PHONE | Exempt—5 U.S.C. 552(b)(4) |
219) ACH FAX | Exempt—5 U.S.C. 552(b)(4) |
220) ACH E-MAIL | Exempt—5 U.S.C. 552(b)(4) |
221) REMIT INFO POC | Exempt—5 U.S.C. 552(b)(4) |
222) REMIT INFO ST ADDRESS (1) | Exempt—5 U.S.C. 552(b)(4) |
223) REMIT INFO ST ADDRESS (2) | Exempt—5 U.S.C. 552(b)(4) |
224) REMIT INFO CITY | Exempt—5 U.S.C. 552(b)(4) |
225) REMIT INFO STATE/PROVINCE | Exempt—5 U.S.C. 552(b)(4) |
226) REMIT INFO POSTAL CODE | Exempt—5 U.S.C. 552(b)(4) |
227) REMIT INFO COUNTRY CODE | Exempt—5 U.S.C. 552(b)(4) |
228) ACCOUNTS REC POC | Exempt—5 U.S.C. 552(b)(4) |
229) ACCOUNTS REC U.S. PHONE | Exempt—5 U.S.C. 552(b)(4) |
230) ACCOUNT REC U.S. PHONE EXT | Exempt—5 U.S.C. 552(b)(4) |
231) ACCOUNT REC NON-U.S. PHONE | Exempt—5 U.S.C. 552(b)(4) |
232) ACCOUNT REC FAX U.S. ONLY | Exempt—5 U.S.C. 552(b)(4) |
233) ACCOUNTS REC E-MAIL | Exempt—5 U.S.C. 552(b)(4) |
234) MARKETING PARTNER ID (MPIN) | Exempt—5 U.S.C. 552(b)(4) |
235) PARENT POC | Exempt—5 U.S.C. 552(b)(4) |
236) PARENT DUNS NUMBER | Exempt—5 U.S.C. 552(b)(4) |
237) PARENT ST ADD (1) | Exempt—5 U.S.C. 552(b)(4) |
238) PARENT ST ADD (2) | Exempt—5 U.S.C. 552(b)(4) |
239) PARENT CITY | Exempt—5 U.S.C. 552(b)(4) |
240) PARENT POSTAL CODE | Exempt—5 U.S.C. 552(b)(4) |
241) PARENT COUNTRY CODE | Exempt—5 U.S.C. 552(b)(4) |
242) PARENT STATE OR PROVINCE | Exempt—5 U.S.C. 552(b)(4) |
243) GOVT PARENT POC | Exempt—5 U.S.C. 552(b)(4) |
244) GOVT PARENT ST ADD (1) | Exempt—5 U.S.C. 552(b)(4) |
245) GOVT PARENT ST ADD (2) | Exempt—5 U.S.C. 552(b)(4) |
246) GOVT PARENT CITY | Exempt—5 U.S.C. 552(b)(4) |
247) GOVT PARENT POSTAL CODE | Exempt—5 U.S.C. 552(b)(4) |
248) GOVT PARENT COUNTRY CODE | Exempt—5 U.S.C. 552(b)(4) |
249) GOVT PARENT STATE OR PROVINCE | Exempt—5 U.S.C. 552(b)(4) |
*250) EXECUTIVE COMPENSATION (QUESTION 1—MANDATORY) | Exempt—5 U.S.C. 552(b)(4) |
*251) EXECUTIVE COMPENSATION (QUESTION 2—CONDITIONAL) | Exempt—5 U.S.C. 552(b)(4) |
*252) EXECUTIVE COMPENSATION NAME (FIVE REPEATED FIELDS) | Exempt—5 U.S.C. 552(b)(4) |
*253) EXECUTIVE COMPENSATION POSITION TITLE (FIVE REPEATED FIELDS) | Exempt—5 U.S.C. 552(b)(4) |
*254) EXECUTIVE COMPENSATION TOTAL COMPENSATION AMOUNT (FIVE REPEATED FIELDS) | Exempt—5 U.S.C. 552(b)(4) |
**255) PROCEEDING (QUESTION 1—MANDATORY) | Exempt—5 U.S.C. 552(b)(4) |
**256) PROCEEDING (QUESTION 2—CONDITIONAL) | Exempt—5 U.S.C. 552(b)(4) |
**257) PROCEEDING (QUESTION 3—CONDITIONAL) | Exempt—5 U.S.C. 552(b)(4) |
**258) PROCEEDING TYPE CODE (CONDITIONAL) | Exempt—5 U.S.C. 552(b)(4) |
**259) PROCEEDING DATE (CONDITIONAL) | Exempt—5 U.S.C. 552(b)(4) |
**260) PROCEEDING DESCRIPTION (CONDITIONAL) | Exempt—5 U.S.C. 552(b)(4) |

Dated: May 6, 2011.
Christopher Fornecker,
Director, Acquisition Systems Division.

[FR Doc. 2011-11930 Filed 5-13-11; 8:45 am]

BILLING CODE 6820-27-P